DEPARTMENT OF ENERGY

Federal Energy Regulatory Commission

[Docket No. CP15-558-000]

PennEast Pipeline Company, LLC; Notice of Schedule for Environmental Review of the Penneast Pipeline Project

On September 24, 2015, PennEast Pipeline Company, LLC (PennEast) filed an application in Docket No. CP15-558-000 under section 7(c) of the Natural Gas Act seeking a Certificate of Public Convenience and Necessity to construct, operate, and maintain a new natural gas pipeline system in Pennsylvania and New Jersey. The proposed project is known as the PennEast Pipeline Project and will provide approximately 1.0 billion cubic feet per day of year-round transportation natural gas service to markets in eastern and southeastern Pennsylvania and New Jersey.

On October 8, 2015, the Federal Energy Regulatory Commission (Commission or FERC) issued its Notice of Application for the project. Among other things, that notice alerted other agencies issuing federal authorizations of the requirement to complete all necessary reviews and to reach a final decision on the request for a federal authorization within 90 days of the date of issuance of the Commission staff's final Environmental Impact Statement (EIS) for the PennEast Pipeline Project. This instant notice identifies the FERC staff's planned schedule for completion of the final EIS for the project.

Schedule for Environmental Review

Issuance of Notice of Availability of the final EIS—December 16, 2016.

90-day Federal Authorization Decision Deadline—March 16, 2017.

If a schedule change becomes necessary, additional notice will be provided so the relevant agencies are kept informed of the project's progress.

Project Description

The project includes a total of 118.8 miles of pipeline and laterals composed of 115.0 miles of new, 36-inch-diameter pipeline extending from Luzerne County, Pennsylvania to Mercer County, New Jersey. The Project would also have three pipeline laterals: The 2.1-mile Hellertown Lateral consisting of 24-inch-diameter pipeline in Northampton County, Pennsylvania; the 0.1-mile Gilbert Lateral consisting of 12-inch-diameter pipeline in Hunterdon County, Pennsylvania; and the 1.5-mile Lambertville Lateral consisting of 36-inch-diameter pipeline in Hunterdon County, New Jersey.

The proposed aboveground facilities consist of a new, 47,700 horsepower compressor station in Kidder Township, Carbon County, Pennsylvania. The project would also include the construction of 8 meter and regulator stations, 11 mainline valves, and 11 pig launcher/receiver sites.

Background

On October 10, 2014, the Commission staff granted PennEast's request to use the FERC's Pre-filing environmental review process and assigned the PennEast Pipeline Project Docket No. PF15-1-000. On January 13, 2015, the Commission issued, in that docket, a Notice of Intent to Prepare an Environmental Impact Statement for the Planned PennEast Pipeline Project, Request for Comments on Environmental Issues, and Notice of Public Scoping Meetings (NOI). The NOI was sent to affected landowners; federal, state, and local government agencies; elected officials; environmental and public interest groups; Native American tribes; other interested parties; and local libraries and newspapers.

The primary issues raised by the commenters during scoping included concerns about potential impacts on agricultural farms, ground water resources on Sourland Region, protected conservation lands, threatened and endangered species, archaeological sites, forest (i.e., fragmentation), and impacts on property value. In addition, the added responsibility for emergency response teams; potential for arsenic release into groundwater; safety of local residents in the event of a pipeline incident; long-term impacts of compressor stations on human health and the environment; construction in karst areas; and need for alternatives were also raised.

The U.S. Environmental Protection Agency, U.S. Army Corps of Engineers, U.S. Department of Agriculture, U.S. Fish and Wildlife Service, and U.S. Department of Transportation's Pipeline and Hazardous Materials Safety Administration are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP15-558), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: March 29, 2016.
Nathaniel J. Davis, Sr.,
Deputy Secretary.

[FR Doc. 2016-07536 Filed 4-1-16; 8:45 am]

BILLING CODE 6717-01-P